SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 8, 2010.

ADDRESSES: Send all comments regarding whether this information collection is necessary for the proper performance of the function of the agency, whether the burden estimates are accurate, and if there are ways to minimize the estimated burden and enhance the quality of the collection, to Joan Elliston, Program Analyst, Office of Government Contracting, Small Business Administration, 409 3rd Street, 8th Floor, Washington, DC 20416.

FOR FURTHER INFORMATION CONTACT: Joan Elliston, Office of Government Contracting, 202-205-7190 joan.elliston@sba.gov Curtis B. Rich, Management Analyst, 202-205-7030 curtis.rich@sba.gov.

SUPPLEMENTARY INFORMATION: The Office of Business Development of the U.S. Small Business Administration seeks information solely for the purpose of enhancing the 8(a) Business Development program ((8(a) BD program) on the impact of the program on 8(a) graduated firms and 8(a) firms that voluntarily exited the program after substantially achieving business targets in the context of goals/criteria set forth by statute and regulatory authority. A contractor will be chosen and tasked with providing analyses, evaluation and insight and will be required to collect data. This assessment will rely on survey data as well as existing industry, government and private resources.

Title: “Impact of the 8(a) Business Development Program.”

Description of Respondents: On Occasion.

Form Number: N/A.

Annual Responses: 4,000.

Annual Burden: 50 minutes.

Jacqueline White,
Chief, Administrative Information Branch.

[FR Doc. 2010-8146 Filed 4-8-10; 8:45 am]

BILLING CODE P